OFFICE OF THE UNITED STATES TRADE REPRESENTATIVE

[Docket No. USTR-2014-0003]

2013 Special 301 Out-of-Cycle Review of Spain: Request for Public Comments

AGENCY: Office of the United States Trade Representative.

ACTION: Request for written submissions.

SUMMARY: In the 2013 Special 301 Report (www.ustr.gov), the Office of the United States Trade Representative (USTR) announced that, in order to monitor progress on specific intellectual property rights (IPR) issues, an Out-of-Cycle Review (OCR) would be conducted for El Salvador and Spain. USTR requests written submissions from the public concerning any act, policy, or practice that is relevant to the decision regarding whether Spain should be identified under Section 182 of the Trade Act of 1974 (Trade Act) (19 U.S.C. 2242).

DATES: Friday, February 14, 2014—Deadline for the public, except foreign governments, to submit written comments.

Friday, February 21, 2014—Deadline for foreign governments to submit written comments.

Please note that on January 3, 2014, USTR issued a request for comments from the public and provided notice of a public hearing related to the 2014 Special 301 Review (https://federalregister.gov/a/2013-31487 (docket number USTR-2013-0040). The public is not required to respond to both notices. Written submissions related to Spain filed under docket number USTR-2013-0040 will be taken into consideration in this Out-of-Cycle Review.

ADDRESSES: All written comments must be in English and submitted electronically via http://www.regulations.gov, docket number USTR-2014-0003. Please specify “2013 Special 301 Out-of-Cycle Review of Spain” in the “Type Comment” field on http://www.regulations.gov.

FOR FURTHER INFORMATION CONTACT: George York, Deputy Assistant USTR for Intellectual Property and Innovation, Office of the United States Trade Representative, at (202) 395-6126.

SUPPLEMENTARY INFORMATION:

1. Background

Section 182 of the Trade Act requires USTR to identify countries that deny adequate and effective protection of IPR or deny fair and equitable market access to U.S. persons who rely on intellectual property protection. The provisions of Section 182 are commonly referred to as the “Special 301” provisions of the Trade Act.

Those countries that have the most onerous or egregious acts, policies, or practices and whose acts, policies, or practices have the greatest adverse impact (actual or potential) on relevant U.S. products are to be identified as Priority Foreign Countries. In addition, USTR has created a “Priority Watch List” and a “Watch List” under Special 301 provisions. Placement of a trading partner on the Priority Watch List or Watch List indicates that particular problems exist in that country with respect to IPR protection, enforcement, or market access for persons relying on intellectual property.

In the 2013 Special 301 Report, USTR noted that although Spain was not listed in the report, USTR would conduct an OCR of Spain focusing in particular on Spain's concrete steps to combat copyright piracy over the Internet. An OCR is a tool that USTR uses to encourage progress on IPR issues of concern. It provides an opportunity for heightened engagement with a trading partner to address and remedy such issues. Successful resolution of specific IPR issues of concern or lack of action on that concern can lead to a change in a trading partner's status on a Special 301 list outside of the typical time frame for the annual Special 301 Report.

1. Written Comments

a. Requirements for Written Comments

To facilitate the review, written comments should be as detailed as possible and provide all necessary information for identifying and assessing the effect of the acts, policies, and practices of Spain. USTR requests that interested parties provide specific references to laws, regulations, policy statements, executive, presidential or other orders, administrative, court or other determinations that should factor in the review. USTR also requests that submissions include data, loss estimates, and other information regarding the economic impact on the United States, U.S. industry, and the U.S. workforce caused by the denial of adequate and effective intellectual property protection. Comments that include quantitative loss claims should be accompanied by the methodology used in calculating such estimated losses.

b. Filing Instructions

Comments must be in English. All comments should be sent electronically via http://www.regulations.gov, docket number USTR-2014-0003. To submit comments to http://www.regulations.gov, locate the docket (folder) by entering the number USTR-2014-0003 in the “Enter Keyword or ID” window at the http://www.regulations.gov home page and click “Search.” The site will provide a search-results page listing all documents associated with this docket. Locate the reference to this notice by selecting “Notice” under “Document Type” on the left side of the search-results page, and click on the link entitled “Comment Now!”. The http://www.regulations.gov site provides the option of submitting comments by filling in a “Type comment” field, or by attaching a document. USTR requests that comments be provided in an attached document. If a document is attached, please type “2013 Special 301 Out-of-Cycle Review of Spain' in the “Type Comment” field. Please submit documents prepared in (or compatible with) Microsoft Word (.doc) or Adobe Acrobat (.pdf) formats. If the submission was prepared in a compatible format, please indicate the name of the relevant application in the “Type comment” field. For further information on using the http://www.regulations.gov Web site, please select “How to use Regulations.gov” on the bottom of any page. Please do not attach separate cover letters to electronic submissions; rather, include any information that might appear in a cover letter in the comments themselves. Similarly, to the extent possible, please include any exhibits, annexes, or other attachments in the same file as the submission itself, not as separate files.

c. Business Confidential Information

A submitter requesting that information contained in a comment submitted by that submitter be treated as confidential business information must certify that such information is business confidential and would not customarily be released to the public by the submitter. The filenames of both documents should reflect their status—“BCI” for the business confidential version and “PUBLIC” for the public version. In the document, confidential business information must be clearly designated as such, the submission must be marked “BUSINESS CONFIDENTIAL” at the top and bottom of the cover page and each succeeding page, and the submission should indicate, via brackets, the specific information that is confidential. Additionally, the submitter should write “Business Confidential” in the “Type Comment” field. Anyone submitting a comment containing business confidential information must also submit, as a separate submission, a non-business confidential version of the submission, indicating where the business confidential information has been redacted. The non-business confidential version will be placed in the docket at http://www.regulations.gov and be available for public inspection

Public Inspection of Comments

Submissions will be placed in the docket and open to public inspection pursuant to 15 CFR 2006.13, except business confidential information exempt from public inspection in accordance with 15 CFR 2006.15. Submissions may be viewed on the www.regulations.gov Web site by entering docket number USTR-2014-0003 in the search field on the home page.

Susan F. Wilson,
Director for Intellectual Property and Innovation.

[FR Doc. 2014-01354 Filed 1-23-14; 8:45 am]

BILLING CODE 3290-F4-P